DEPARTMENT OF TREASURY

Internal Revenue Service

Office of the General Counsel; Appointment of Members of the Legal Division to the Performance Review Board, Internal Revenue Service

Under the authority granted to me as Acting Chief Counsel of the Internal Revenue Service by the General Counsel of the Department of the Treasury by General Counsel Directive 15, pursuant to the Civil Service Reform Act, I have appointed the following persons to the Legal Division Performance Review Board, Internal Revenue Service Panel:

1. Chairperson, Drita Tonuzi, Deputy Chief Counsel (Operations)

2. Robin Greenhouse, Division Counsel (Large Business & International)

3. John Moriarty, Deputy Associate Chief Counsel (Income Tax and Accounting)

4. Marjorie Rollinson, Associate Chief Counsel (International)

5. Thomas Travers, Associate Chief Counsel (Finance & Management)

Alternate—Bruce Meneely, Division Counsel (Small Business & Self Employed)

This publication is required by 5 U.S.C. 4314(c)(4).

Dated: October 24, 2018.
William M. Paul,
Acting Chief Counsel, Internal Revenue Service.

[FR Doc. 2018-23877 Filed 10-31-18; 8:45 am]

BILLING CODE 4830-01-P